DEPARTMENT OF HEALTH AND HUMAN SERVICES

Announcement of Requirements and Registration for “Blue Button Mash Up Challenge”

AGENCY: Office of the National Coordinator for Health Information Technology, HHS.

Award Approving Official: Farzad Mostashari, National Coordinator for Health Information Technology.

ACTION: Notice.

SUMMARY: The Office of the National Coordinator for Health Information Technology (ONC) and the Department of Veterans Affairs are working to empower individuals to be partners in their health through health information technology (health IT). Giving patients access to information about them related to the care they receive from doctors and other healthcare providers is in itself valuable, but it is also important to enable patients to use that information to make informed decisions.

Individuals should be able to access and use their basic health information together with other information to take action: To better understand their current health status, use decision support software to choose treatments, anticipate and consider the costs of different options, and target and modify the everyday behaviors that have the greatest impact on their health. Inspired by the well-known “three-part aim” for improvement of the health care system, this challenge requires participants to help individuals to take action based on combining their health information with additional information that puts it into a more meaningful context.

The statutory authority for this challenge competition is Section 105 of the America COMPETES Reauthorization Act of 2010 (Pub. L. 111-358).

DATES: Effective on June 5, 2012. Challenge submission period ends September 5, 2012, 11:59 p.m. et.

FOR FURTHER INFORMATION CONTACT: Adam Wong, 202-720-2866; Wil Yu, 202-690-5920.

SUPPLEMENTARY INFORMATION:

Subject of Challenge Competition

This challenge builds on a prior Blue Button challenge to make personal health information more usable and meaningful for the individual consumer or patient. Apps must be platform neutral. The challenge is broken into two parts:

1. App Development: Entrants must submit an app that makes the best use of Blue Button downloaded personal health data and combines it with other types of data. Apps must include data from at least two of the three part aim categories below.

2. Reach: The app must be able to garner high patient engagement rates. Entrants will therefore have to demonstrate a partnership with a personal health information data holding organization (such as a provider, payor, or Personal Health Record vendor—see healthit.gov/pledge for a definition of a data holding organization) to achieve wide distribution among patients.

Applying the Three Part Aim: To participate in the challenge, entrants must mash up Blue Button data—data about a patient which the patient can download directly using a health plan's, doctor's or hospital's Blue Button function—with information from two or more of the three part aim categories. Below are examples of types of contextual data that would qualify for purposes of this contest. Entrants can use data sets from the categories below or similar data sets.

Components of the Three Part Aim

Part 1: Better Care Interactions With the Healthcare System

• Assist individuals in choosing high quality care that is relevant to their individual needs by including ratings for physician comparisons, hospital comparisons, or other care quality data.

• Assist individuals in identifying providers, practices, and hospitals that are health information technology enabled by using information from CMS related to Meaningful Use or other sources.

• Support individuals in understanding their current state of health by combining clinical data and medical claims data to create a comprehensive list of the individual's medical conditions.

• Support individuals in understanding their current medication regimen by aggregating clinical data from doctors/hospitals, prescription claims data, and downloaded clinical data to create a single comprehensive list of medications.

Part 2: Better Care for Oneself Outside of the Healthcare System

• Provide support to help an individual meet some of their personally stated health goals, (for example related to healthy eating, exercise, social support, or other virtual or geographically based resources).

• Provide an easily understood representation of an individual's health status in comparisons to others of a similar demographic (age, gender, ethnicity, or otherwise), and make recommendations for actionable things an individual could do toward better health outcomes based on their comparative health data.

• Extrapolate how healthy behavior change can lead to positive health outcomes over time (for example show potential weight loss and reduced risk of cardiac illness from adding two 30 minute walks per week)

Part 3: Reduced Costs

• Provide information related to costs of relevant health care services (treatments, procedures, medication formularies, etc.) and/or financial savings likely to accrue from behavior changes.

• Create algorithms that exhibit cost savings to the individual and/or the health care system if the individual makes healthy living interventions, or different cost related choices in their health care.

Eligibility Rules for Participating in the Competition

To be eligible to win a prize under this challenge, an individual or entity—

(1) Shall have registered to participate in the competition under the rules promulgated by the Office of the National Coordinator for Health Information Technology.

(2) Shall have complied with all the requirements under this section.

(3) In the case of a private entity, shall be incorporated in and maintain a primary place of business in the United States, and in the case of an individual, whether participating singly or in a group, shall be a citizen or permanent resident of the United States.

(4) May not be a Federal entity or Federal employee acting within the scope of their employment.

(5) Shall not be an HHS employee working on their applications or submissions during assigned duty hours.

(6) Shall not be an employee of Office of the National Coordinator for Health IT.

(7) Federal grantees may not use Federal funds to develop COMPETES Act challenge applications unless consistent with the purpose of their grant award.

(8) Federal contractors may not use Federal funds from a contract to develop COMPETES Act challenge applications or to fund efforts in support of a COMPETES Act challenge submission.

An individual or entity shall not be deemed ineligible because the individual or entity used Federal facilities or consulted with Federal employees during a competition if the facilities and employees are made available to all individuals and entities participating in the competition on an equitable basis.

Entrants must agree to assume any and all risks and waive claims against the Federal Government and its related entities, except in the case of willful misconduct, for any injury, death, damage, or loss of property, revenue, or profits, whether direct, indirect, or consequential, arising from my participation in this prize contest, whether the injury, death, damage, or loss arises through negligence or otherwise.

Entrants must also agree to indemnify the Federal Government against third party claims for damages arising from or related to competition activities.

Registration Process for Participants

To register for this challenge participants should either:

• Access the www.challenge.gov Web site and search for the “Blue Button Mash Up Challenge”.

• Access the ONC Investing in Innovation (i2) Challenge Web site at:

○ http://www.health2con.com/devchallenge/challenges/onc-i2-challenges/.

○ A registration link for the challenge can be found on the landing page under the challenge description.

Amount of the Prize

• First Prize: $45,000.

• Second Prize: $20,000.

• Third Prize: $10,000.

Awards may be subject to Federal income taxes and HHS will comply with IRS withholding and reporting requirements, where applicable.

Payment of the Prize

Prize will be paid by contractor.

Basis Upon Which Winner Will Be Selected

The ONC review panel will make selections based upon the following criteria:

• Effectively integrate Blue Button data that incorporates elements from two or more of the sections described above (special consideration will be given to apps and tools that incorporate data from all three components of the three-part aim).

• Integrate patient-centered design and usability concepts to drive high patient adoption and engagement rates.

• Innovation—how is the data mashed up in innovative ways to contextualize the individual's Blue Button downloaded data.

• Provide a one page implementation plan for how this app solution will be implemented for scalability, including details for marketing and promotion.

• Existing or modified apps should show an uptake in their initial user base demonstrating the potential for market penetration based on Blue Button data contextualization capabilities.

Additional Information

Ownership of intellectual property is determined by the following:

• Each entrant retains title and full ownership in and to their submission. Entrants expressly reserve all intellectual property rights not expressly granted under the challenge agreement.

• By participating in the challenge, each entrant hereby irrevocably grants to Sponsor and Administrator a limited, non-exclusive, royalty free, worldwide, license and right to reproduce, publically perform, publically display, and use the Submission to the extent necessary to administer the challenge, and to publically perform and publically display the Submission, including, without limitation, for advertising and promotional purposes relating to the challenge.

Authority: 15 U.S.C. 3719.

Dated: May 31, 2012.
Farzad Mostashari,
National Coordinator for Health Information Technology.

[FR Doc. 2012-13819 Filed 6-6-12; 8:45 am]

BILLING CODE 4150-45-P